DEPARTMENT OF AGRICULTURE

Forest Service

Shoshone Resource Advisory Committee Meeting

AGENCY: Forest Service, USDA.

ACTION: Notice of meeting.

SUMMARY: The Shoshone Resource Advisory Committee (RAC) will meet in Thermopolis, Wyoming. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to discuss the status of current SRS Title II projects and to review, and possibly vote on, project proposal for 2013 Title II funds.

DATES: The meeting will be held April 22, 2014 from 9:00 until 3:30 p.m. MST.

All RAC meetings are subject to cancellation. For status of meeting prior to attendance, please contact the person listed under FOR FURTHER INFORMATION CONTACT.

ADDRESSES: The meeting will be held at Bighorn Federal Savings Bank, 643 Broadway Street, Thermopolis, WY.

Written comments may be submitted as described under Supplementary Information. All comments, including names and addresses when provided, are placed in the record and are available for public inspection and copying. The public may inspect comments received at Shoshone National Forest, Supervisor's Office, 808 Meadow Lane, Cody, Wyoming. Please call ahead (307-527-6241) to facilitate entry into the building.

FOR FURTHER INFORMATION CONTACT: Steve Schacht by phone at 307-335-2171 or via email at sschacht@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accomodation for access to the facility or procedings by contacting the person listed in For Further Information.

SUPPLEMENTARY INFORMATION: Additional RAC information, including the meeting agenda and the meeting summary/minutes can be found at the following Web site: https://fsplaces.fs.fed.us/fsfiles/unit/wo/secure_rural_schools.nsf. The agenda will include time for people to make oral statements of three minutes or less. Individuals wishing to make an oral statement should request in writing by April 10, 2014 to be scheduled on the agenda. Anyone who would like to bring related matters to the attention of the committee may file written statements with the committee staff before or after the meeting.

Written comments and requests for time for oral comments must be sent to Steve Schacht, District Ranger, 333 East Main St., Lander, WY 82520; or by email to sschacht@fs.fed.us, or via facsimile to 307-332-0264.

Dated: March 6, 2014.
Joseph G. Alexander,
Forest Supervisor .

[FR Doc. 2014-05552 Filed 3-13-14; 8:45 am]

BILLING CODE 3410-11-P